DEPARTMENT OF TRANSPORTATION

Federal Aviation Administration

14 CFR Part 71

[Docket No. FAA-2007-28591; Airspace Docket No. 07-ASO-16]

Amendment of Class E Airspace; Scottsboro, AL

AGENCY: Federal Aviation Administration (FAA), DOT.

ACTION: Final rule.

SUMMARY: This action amends Class E airspace at Scottsboro, AL, to accommodate a new Standard Instrument Approach Procedure (SIAP) that has been developed for Scottsboro Municipal—Word Field Airport. Additional controlled airspace is necessary for the safety and management of Instrument Flight Rules (IFR) operations at Scottsboro Municipal—Word Field Airport.

DATES: Effective Date: 0901 UTC, December 20, 2007. The Director of the Federal Register approves this incorporation by reference action under title 1, Code of Federal Regulations, part 51, subject to the annual revision of FAA Order 7400.9 and publication of conforming amendments.

FOR FURTHER INFORMATION CONTACT: Mark. D. Ward, Manager, System Support Group, Eastern Service Center, Federal Aviation Administration, P.O. Box 20636, Atlanta, Georgia 30320; telephone (404) 305-5627.

SUPPLEMENTARY INFORMATION:

History

On August 15, 2007, the FAA proposed to amend Title 14 Code of Federal Regulations (14 CFR) part 71 by amending Class E airspace at Scottsboro, AL, (72 FR 45700). This action provides adequate Class E airspace for IFR operations at Scottsboro Municipal—Word Field Airport, Scottsboro, AL. Designations for Class E airspace areas extending upward from 700 feet or more above the surface of the Earth are published in FAA Order 7400.9R, dated August 15, 2007, and effective September 15, 2007, which is incorporated by reference in 14 CFR part 71.1. The Class E designations listed in this document will be published subsequently in the Order.

Interested parties were invited to participate in this rulemaking proceeding by submitting written comments on the proposal to the FAA. No comments objecting to the proposal were received.

The Rule

This amendment to Title 14, Code of Federal Regulations (14 CFR) part 71 amends Class E airspace at Scottsboro, AL, to provide additional controlled airspace required to support new Area Navigation (RNAV) Global Positioning System (GPS) Runway (RWY) 4 and RWY 22 SIAP at Scottsboro Municipal—Word Field Airport.

The FAA has determined that this proposed regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (Air).

Adoption of the Amendment

In consideration of the foregoing, the Federal Aviation Administration proposes to amend 14 CFR part 71 as follows:

PART 71—[AMENDED]

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9R, Airspace Designations and Reporting Points, dated August 15, 2007, and effective September 15, 2007, is amended as follows:

Paragraph 6005 Class E airspace areas extending upward from 700 feet or more above the surface of the earth.

* * * * *

ASO AL E5 Scottsboro, AL [Revised]

Scottsboro Municipal—Word Field Airport, AL

(Lat. 34°41′19″ N., long. 86°00′21″ W)

Jackson County Hospital, Point in Space Coordinates

(Lat. 34°39′47″ N, long. 86°01′54″ W)

That airspace extending upward from 700 feet above the surface within a 6.5-mile radius of Scottsboro Municipal—Word Field Airport and within 4 miles each side of the 037° bearing from Scottsboro Municipal—Word Field Airport extending from the 6.5-mile radius to 10.9 miles northeast of the airport and within 4 miles each side of the 218° bearing from the Scottsboro Municipal—Word Field Airport extending from the 6.5-mile radius to 11 miles Southwest of the airport; and that airspace within a 6-mile radius of the point in space (lat. 34°39′47″ N, long. 86°01′54″ W) serving Jackson County Hospital.

* * * * *

Issued in College Park, Georgia, on October 5, 2007.
Lynda Otting,
Acting Manager, System Support Group, Eastern Service Center.

[FR Doc. 07-5353 Filed 10-30-07; 8:45 am]

BILLING CODE 4910-13-M